DEPARTMENT OF ENERGY

Federal Energy Regulatory Commission

[Project No. 15261-000]

Nevada Hydro, Inc.; Notice of Preliminary Permit Application Accepted for Filing and Soliciting Comments, Motions To Intervene, and Competing Applications

On February 8, 2022, Nevada Hydro Company, Inc. filed an application for a preliminary permit, pursuant to section 4(f) of the Federal Power Act (FPA), proposing to study the feasibility of the Lake Elsinore Advanced Pumped Storage Project to be located on Lake Elsinore and San Juan Creek near the city of Lake Elsinore in Riverside and San Diego Counties, California. The project would occupy about 845 acres of federal land administered by the U.S. Department of Agriculture, Forest Service.

The sole purpose of a preliminary permit, if issued, is to grant the permit holder priority to file a license application during the permit term. A preliminary permit does not authorize the permit holder to perform any land-disturbing activities or otherwise enter upon lands or waters owned by others without the owners' express permission.

The proposed project would consist of: (1) A new upper reservoir (Decker Canyon) with a gross storage volume of 5,750 acre-feet and a surface area of approximately 70 acres at a normal reservoir surface elevation of 2,790 feet above mean sea level (msl); (2) a 262-foot-high main dam located on the southwest side of the upper reservoir; (3) a water conduit system consisting of a 1,248-foot-long, 25-foot-diameter concrete-lined power shaft and a 8,247-foot-long, 15-foot-diameter power tunnel transitioning to two, 250-foot-long, 12-foot-diameter steel penstocks; (4) an underground powerhouse with two, reversible Francis-type pump-turbine units with a total installed capacity of 500 megawatts; (5) the existing Lake Elsinore, to be used as a lower reservoir, with a surface area of about 3,412 acres at a normal reservoir surface elevation of 1,249 feet above msl; (6) two 2,450-foot-long, 25-foot-wide, and 25-foot-high concrete-lined tailrace tunnels; (7) about 32 miles of 500-kilovolt transmission line connecting the project to an existing transmission line owned by Southern California Edison that is located north of the proposed project and to an existing San Diego Gas and Electric Company transmission line located to the south; and (8) appurtenant facilities. The estimated annual generation of the project would be 1,560 gigawatt-hours.

Applicant Contacts: Mr. Michael Swiger, Van Ness Feldman LLP, 1050 Thomas Jefferson Street NW, Washington, DC 20007; (202) 298-1891; mas@vnf.com; and Mr. Paul Anderson, Nevada Hydro Company, Inc., 2416 Cades Way, Vista, California 92081; (951) 585-3277; paul@leapsphs.com.

FERC Contact: Tim Konnert, (202) 502-6359.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15261-000.

More information about this project, including a copy of the application, can be viewed, or printed on the “eLibrary” link of the Commission's website at https://elibrary.ferc.gov/eLibrary/search. Enter the docket number (P-15261) in the docket number field to access the document. For assistance, contact FERC Online Support.

Dated: April 8, 2022.
Kimberly D. Bose,
Secretary.

[FR Doc. 2022-07982 Filed 4-13-22; 8:45 am]

BILLING CODE 6717-01-P